DEPARTMENT OF JUSTICE

Antitrust Division

Proposed Termination of Judgment

Notice is hereby given that International Sign Association (“ISA”), successor in interest to National Electric Sign Association (“NESA”), a defendant in United States v. National Electric Sign Association et al., Civil Action No. 51 C 2064 (N.D. I11.), has filed a motion to terminate the Final Judgment entered in that matter on April 5, 1954, as it affects NESA and its successors in interest. The Antitrust Division of the Department of Justice, in a stipulation also filed with the Court, tentatively has consented to termination of the Final Judgment, but has reserved the right to withdraw its consent pending receipt of public comments.

On December 18, 1951, the United States filed a complaint against NESA and three individual defendants who were members of NESA. The complaint alleged that NESA excluded from membership in its Supply distributor Section any parts distributor who also engaged in the manufacture of electric signs or who resold sign parts at less than the parts manufacturers' suggested resale price. The complaint also charged that NESA attempted to coerce parts manufacturers into selling parts only to parts distributors and not directly to sign manufacturers or to parts distributors also engaged in the business of manufacturing signs.

On April 5, 1954, defendants entered a consent decree. Under the decree, defendants were restrained from discriminatory conduct in granting membership in NESA or in charging dues to NESA members. The decree also required defendants to amend NESA's bylaws so as to incorporate Sections V and VI of the Final Judgment and to furnish to each of its present and future members a copy of the Final Judgment. Sections V and VI of the Final Judgment proscribed defendants from engaging in any exclusionary or otherwise potentially or patently anticompetitive conduct such as price fixing, market allocation, concerted refusals to deal, resale price maintenance, or evaluations of parts manufacturers, parts distributors, or sign manufacturers that are disseminated among association members. Finally, NESA was restrained under the consent decree from holding a national meeting without giving notice to all of its members or a regional meeting without giving notice to all of its members in the appropriate region. The provisions of the Final Judgment are applicable to NESA and its successors, including ISA.

The Department has filed with the Court a memorandum setting forth the reasons why the United States believes that termination of the Final Judgment would serve the public interest. Copies of defendants' motion papers, the stipulation containing the United States' tentative consent, the United States' memorandum, and all further papers filed with the Court in connection with this motion will be available for inspection at the Antitrust Documents Group, Antitrust Division, Room 213, 325 7th Street, NW., Washington, DC 20004, and at the Office of the Clerk of the United States District Court for the Northern District of Illinois, Eastern Division. Copies of these materials may be obtained from the Antitrust Division upon request and payment of the copying fee set by Department of Justice regulations.

Interested persons may submit comments regarding the proposed termination of the Final Judgment to the United States. Such comments must be received by the Antitrust Division within sixty (60) days and will be filed with the Court by the United States. Comments should be addressed to Maribeth Petrizzi, Chief, Litigation II Section, Antitrust Division, U.S. Department of Justice, 1401 H Street, NW., Suite 3000, Washington, DC 20530 (202-307-0924).

Dorothy B. Fountain,
Deputy Director of Operations, Antitrust Division.

[FR Doc. 04-15872 Filed 7-13-04; 8:45 am]

BILLING CODE 4410-11-M